DEPARTMENT OF COMMERCE

Bureau of Industry and Security

[Docket No. 240814-0099]

XRIN 0694-XC132

Adoption and Procedures of the Section 232 Steel and Aluminum Tariff Inclusions Process

AGENCY: Bureau of Industry and Security, Department of Commerce.

ACTION: Notice.

SUMMARY: BIS is adding 407 Harmonized Tariff Schedule of the United States (HTSUS) codes to the list of products that will be considered as steel or aluminum derivative products. For such products, steel and aluminum tariffs based on Section 232 of the Trade Expansion Act of 1962 (Section 232) will apply to the steel and aluminum content. The non-steel and non-aluminum content will remain subject to the reciprocal and other applicable tariffs. For 60 HTSUS codes, BIS has decided not to include them as steel and aluminum derivative products at this time, because they are subject to other ongoing investigations pursuant to Section 232 or other trade statutes. The complete list of HTSUS codes added to the Section 232 tariffs by today's action is listed in the annexes to this notice.

DATES: Steel and aluminum derivatives added to the annex in this notice: The duties set out in the annex for these additional steel and aluminum derivatives are effective with respect to certain products that are entered for consumption, or withdrawn from warehouse for consumption, on or after 12:01 a.m. Eastern Time on August 18, 2025.

SUPPLEMENTARY INFORMATION:

Background

On February 10, 2025, the President issued the Aluminum Presidential Proclamation adjusting imports of aluminum into the United States (Proclamation 10895 of February 10, 2025) (90 FR 9807) and the Steel Presidential Proclamation adjusting imports of steel into the United States (Proclamation 10896 of February 10, 2025) (90 FR 9817). These Proclamations instructed the Secretary of Commerce (Secretary), in consultation with other relevant executive departments and agencies, to revise the HTSUS so that it conforms to the amendments and effective dates directed in the Steel and Aluminum Presidential Proclamations within ten days of the issuance of the Proclamations. The Proclamations directed and authorized the Secretary to publish any such modifications to the HTSUS in the Federal Register. BIS published such modifications in Annex 1 to the notice, Implementation of Duties on Steel Pursuant to Proclamation 10896 Adjusting Imports of Steel Into the United States and Implementation of Duties on Steel Pursuant to Proclamation 10895 Adjusting Imports of Aluminum Into the United States on behalf of the Secretary on March 5, 2025 (90 FR 11249; 90 FR 11251). Additionally, Proclamations 10895 and 10896 required the Secretary to establish a process for including additional derivative aluminum and steel articles within the scope of the ad valorem duties. The Secretary, through BIS, established the Section 232 Inclusions Process via an Interim Final Rule effective April 30, 2025, and the first two-week submission window opened on May 1, 2025 (90 FR 18780). BIS completed its first submission cycle of the Section 232 Inclusions Process for the Section 232 Steel and Aluminum Tariffs and made the submissions available for public comment. After considering the submissions received, today's notice implements the Secretary's decisions and revises Annex I to add additional steel and/or aluminum derivative products.

Memoranda detailing the Secretary's decisions may be viewed at https://www.regulations.gov/docket/BIS-2025-0023/document.

Today's notice, in Annex II, also makes technical corrections to the HTSUS.

The tariff imposed under Proclamations 10895 and 10896 will be assessed on these derivative products for the value of the steel or aluminum content in each product.

Robby S. Saunders,
Deputy Assistant Secretary for Technology Security.

Annex I

A. Effective with respect to goods entered for consumption, or withdrawn from warehouse for consumption, on or after 12:01 a.m. on August 18, 2025, subchapter III of chapter 99 of the Harmonized Tariff Schedule of the United States (HTSUS) is modified:

a. By amending subdivision (m) to note 16, by inserting the following into the list HTSUS provisions in numerical order: 7216.91.0010; 7302.90.9000; 7307.19.30; 7307.19.90;

b. By amending subdivision (n) to note 16, by deleting “and (2)” and inserting “; (2)” in lieu thereof, and by inserting the following to the end of the first paragraph after “9403.99.9020”:

“; and (3) all imported derivative iron or steel products that are classified in the following provisions of the HTSUS, including products admitted into a U.S. foreign trade zone under “privileged foreign status” as defined by 19 CFR 146.41, prior to 12:01 a.m. eastern daylight time on August 18, 2025, unless the derivative iron or steel product was processed in another country from steel articles that were melted and poured in the United States: 0402.99.68; 0402.99.70; 0402.99.90; 2106.90.9998; 2710.19.3050; 2711.12.0020; 2804.29.0010; 2804.40.0000; 2901.22.0000; 2903.42.1000; 2903.43.10; 2903.44.10; 2903.45.10; 2903.49.00; 2903.51.10; 2903.59.90; 2903.71.0100; 3004.90.9244; 3208.10.00; 3208.20.00; 3208.90.00; 3209.10.00; 3209.90.00; 3213.90.00; 3214.10.00; 3303.00.10; 3303.00.20; 3303.00.30; 3304.30.00; 3304.99.50; 3305.10.00; 3305.30.00; 3305.90.00; 3306.90.00; 3307.10.10; 3307.10.20; 3307.20.00; 3307.49.00; 3307.90.00; 3401.30.10; 3401.30.50; 3402.31.90; 3402.49.90; 3402.50.11; 3402.50.51; 3402.90.10; 3402.90.30; 3402.90.50; 3403.19.10; 3403.19.50; 3403.99.00; 3405.10.00; 3405.20.00; 3405.40.00; 3405.90.00; 3506.10.50; 3506.91.10; 3506.91.50; 3506.99.00; 3808.59.10; 3808.59.40; 3808.61.10; 3808.61.50; 3808.62.10; 3808.62.50; 3808.69.10; 3808.69.50; 3808.91.15; 3808.91.25; 3808.91.30; 3808.91.50; 3808.94.10; 3808.94.50; 3809.91.00; 3810.10.00; 3811.19.00; 3811.21.00; 3814.00.10; 3814.00.20; 3814.00.50; 3820.00.00; 3824.99.9397; 3827.61.0000; 3827.62.0000; 3827.63.0000; 3827.64.0000; 3827.65.0000; 3925.20.00; 3926.90.10; 7614.10.10; 8202.39.0040; 8203.40.60; 8205.59.55; 8205.70.00; 8207.20.0070; 8207.30.6062; 8207.30.6095; 8211.10.00; 8211.91.10; 8211.91.20; 8211.91.25; 8211.91.30; 8211.91.40; 8211.91.50; 8211.91.80; 8211.92.20; 8211.92.40; 8211.92.60; 8211.92.90; 8211.93.00; 8211.94.10; 8211.94.50; 8211.95.10; 8211.95.50; 8211.95.90; 8215.10.00; 8215.20.00; 8215.91.30; 8215.91.60; 8215.91.90; 8215.99.01; 8215.99.05; 8215.99.10; 8215.99.15; 8215.99.20; 8215.99.22; 8215.99.24; 8215.99.26; 8215.99.30; 8215.99.35; 8215.99.40; 8215.99.45; 8215.99.50; 8302.10.60; 8302.41.30; 8302.41.60; 8302.42.30; 8302.49.60; 8305.20.00; 8307.10.60; 8401.40.0000; 8403.10.00; 8406.90.4000; 8407.21.00; 8407.90.10; 8407.90.90; 8408.20.10; 8408.20.90; 8409.91.50; 8409.91.92; 8409.91.99; 8409.99.91; 8409.99.92; 8409.99.99; 8410.90.0000; 8411.81.80; 8412.21.00; 8412.29.80; 8412.90.9070; 8412.90.9075; 8413.81.00; 8413.91.9055; 8413.91.9060; 8413.91.9096; 8414.30.40; 8414.80.16; 8414.90.30; 8414.90.41; 8415.10.30; 8415.10.60; 8415.10.90; 8415.81.01; 8415.82.01; 8415.83.00; 8415.90.40; 8415.90.80; 8417.90.0000; 8418.21.00; 8418.29.20; 8418.99.40; 8419.81.50; 8421.29.00; 8424.10.0000; 8424.89.90; 8425.42.00; 8426.20.00; 8426.99.00; 8427.10.40; 8427.10.80; 8427.20.40; 8427.20.80; 8427.90.00; 8428.32.00; 8428.33.00; 8428.39.00; 8428.60.00; 8428.70.00; 8428.90.03; 8429.11.00; 8429.19.00; 8429.20.00; 8429.30.00; 8429.40.00; 8429.51.10; 8429.51.50; 8429.52.10; 8429.52.50; 8429.59.10; 8429.59.50; 8431.20.00; 8431.39.00; 8431.41.00; 8431.43.40; 8431.43.80; 8433.11.00; 8433.20.00; 8433.51.00; 8433.59.00; 8433.90.10; 8433.90.50; 8443.16.0000; 8454.20.0010; 8454.20.0060; 8455.30.00; 8455.90.4000; 8455.90.8000; 8457.10.00; 8474.90.00; 8477.10.30; 8477.10.40; 8477.10.90; 8477.90.25; 8477.90.8601; 8479.89.55; 8479.89.65; 8479.90.45; 8479.90.55; 8479.90.65; 8479.90.75; 8479.90.85; 8479.90.95; 8480.49.0010; 8480.71.8045; 8480.71.8060; 8480.79.9010; 8482.10.5004; 8482.10.5008; 8482.10.5012; 8482.10.5016; 8482.10.5024; 8482.10.5028; 8482.10.5032; 8482.10.5036; 8482.10.5052; 8482.10.5056; 8482.10.5060; 8482.10.5064; 8482.10.5068; 8482.20.0064; 8482.20.0067; 8482.20.0090; 8482.99.05; 8482.99.15; 8482.99.25; 8482.99.35; 8482.99.45; 8482.99.65; 8483.10.1010; 8483.10.1050; 8483.10.50; 8483.20.40; 8483.20.80; 8483.30.40; 8483.30.80; 8483.40.10; 8483.40.5020; 8483.40.90; 8483.50.60; 8483.50.90; 8483.60.40; 8483.60.80; 8483.90.20; 8483.90.30; 8483.90.50; 8483.90.70; 8483.90.80; 8501.53.40; 8501.53.60; 8501.53.80; 8501.64.0110; 8502.31.0000; 8503.00.35; 8503.00.45; 8503.00.65; 8503.00.75; 8503.00.90; 8503.00.95; 8504.23.00; 8504.33.00; 8504.90.9634; 8504.90.9638; 8504.90.9642; 8514.20.40; 8514.20.60; 8516.29.00; 8516.60.60; 8601.10.00; 8601.20.00; 8602.10.00; 8602.90.00; 8603.10.00; 8603.90.00; 8604.00.00; 8605.00.00; 8607.11.00; 8607.19.0300; 8607.19.06; 8607.19.12; 8607.19.15; 8607.19.90; 8607.21.50; 8607.30.1010; 8607.30.1050; 8607.30.1090; 8607.30.50; 8607.91.00; 8607.99.50; 8609.00.00; 8701.10.01; 8701.21.0080; 8701.22.0080; 8701.23.0080; 8701.24.0080; 8701.29.0080; 8701.30.10; 8701.30.50; 8701.91.10; 8701.91.50; 8701.92.10; 8701.92.50; 8701.93.10; 8701.93.50; 8701.94.10; 8701.94.50; 8701.95.10; 8701.95.50; 8702.10.31; 8702.10.61; 8703.10.10; 8703.10.50; 8703.21.01; 8705.10.00; 8705.20.00; 8705.90.0010; 8705.90.0020; 8706.00.30; 8708.40.30; 8708.40.60; 8708.92.10; 8708.92.50; 8708.92.60; 8708.92.75; 8708.93.15; 8708.93.30; 8708.99.23; 8708.99.81; 8710.00.00; 8711.30.00; 8711.50.00; 8711.60.00; 8714.10.00; 8716.10.00; 8716.39.00; 8716.80.10; 8716.80.50; 8716.90.10; 8716.90.30; 9401.71.00; 9401.79.00; 9403.10.00; 9403.99.10; 9403.99.9010; 9403.99.9015; 9403.99.9040; 9403.99.9045; 9403.99.9051; 9403.99.9061; 9506.91.00”;

c. By amending subdivision (t) to note 16, by inserting the following into the list HTSUS provisions in numerical order: 7216.91.0010; 7302.90.9000; 7307.19.30; 7307.19.90;

d. By amending subdivision (u) to note 16, by deleting “and (2)” and inserting “; (2)” in lieu thereof, and by inserting the following to the end of the first paragraph after “9403.99.9020”:

“; and (3) all imported derivative iron or steel products that are classified in the following provisions of the HTSUS, including products admitted into a U.S. foreign trade zone under “privileged foreign status” as defined by 19 CFR 146.41, prior to 12:01 a.m. eastern daylight time on August 18, 2025, unless the derivative iron or steel product was processed in another country from steel articles that were melted and poured in the United States: 0402.99.68; 0402.99.70; 0402.99.90; 2106.90.9998; 2710.19.3050; 2711.12.0020; 2804.29.0010; 2804.40.0000; 2901.22.0000; 2903.42.1000; 2903.43.10; 2903.44.10; 2903.45.10; 2903.49.00; 2903.51.10; 2903.59.90; 2903.71.0100; 3004.90.9244; 3208.10.00; 3208.20.00; 3208.90.00; 3209.10.00; 3209.90.00; 3213.90.00; 3214.10.00; 3303.00.10; 3303.00.20; 3303.00.30; 3304.30.00; 3304.99.50; 3305.10.00; 3305.30.00; 3305.90.00; 3306.90.00; 3307.10.10; 3307.10.20; 3307.20.00; 3307.49.00; 3307.90.00; 3401.30.10; 3401.30.50; 3402.31.90; 3402.49.90; 3402.50.11; 3402.50.51; 3402.90.10; 3402.90.30; 3402.90.50; 3403.19.10; 3403.19.50; 3403.99.00; 3405.10.00; 3405.20.00; 3405.40.00; 3405.90.00; 3506.10.50; 3506.91.10; 3506.91.50; 3506.99.00; 3808.59.10; 3808.59.40; 3808.61.10; 3808.61.50; 3808.62.10; 3808.62.50; 3808.69.10; 3808.69.50; 3808.91.15; 3808.91.25; 3808.91.30; 3808.91.50; 3808.94.10; 3808.94.50; 3809.91.00; 3810.10.00; 3811.19.00; 3811.21.00; 3814.00.10; 3814.00.20; 3814.00.50; 3820.00.00; 3824.99.9397; 3827.61.0000; 3827.62.0000; 3827.63.0000; 3827.64.0000; 3827.65.0000; 3925.20.00; 3926.90.10; 7614.10.10; 8202.39.0040; 8203.40.60; 8205.59.55; 8205.70.00; 8207.20.0070; 8207.30.6062; 8207.30.6095; 8211.10.00; 8211.91.10; 8211.91.20; 8211.91.25; 8211.91.30; 8211.91.40; 8211.91.50; 8211.91.80; 8211.92.20; 8211.92.40; 8211.92.60; 8211.92.90; 8211.93.00; 8211.94.10; 8211.94.50; 8211.95.10; 8211.95.50; 8211.95.90; 8215.10.00; 8215.20.00; 8215.91.30; 8215.91.60; 8215.91.90; 8215.99.01; 8215.99.05; 8215.99.10; 8215.99.15; 8215.99.20; 8215.99.22; 8215.99.24; 8215.99.26; 8215.99.30; 8215.99.35; 8215.99.40; 8215.99.45; 8215.99.50; 8302.10.60; 8302.41.30; 8302.41.60; 8302.42.30; 8302.49.60; 8305.20.00; 8307.10.60; 8401.40.0000; 8403.10.00; 8406.90.4000; 8407.21.00; 8407.90.10; 8407.90.90; 8408.20.10; 8408.20.90; 8409.91.50; 8409.91.92; 8409.91.99; 8409.99.91; 8409.99.92; 8409.99.99; 8410.90.0000; 8411.81.80; 8412.21.00; 8412.29.80; 8412.90.9070; 8412.90.9075; 8413.81.00; 8413.91.9055; 8413.91.9060; 8413.91.9096; 8414.30.40; 8414.80.16; 8414.90.30; 8414.90.41; 8415.10.30; 8415.10.60; 8415.10.90; 8415.81.01; 8415.82.01; 8415.83.00; 8415.90.40; 8415.90.80; 8417.90.0000; 8418.21.00; 8418.29.20; 8418.99.40; 8419.81.50; 8421.29.00; 8424.10.0000; 8424.89.90; 8425.42.00; 8426.20.00; 8426.99.00; 8427.10.40; 8427.10.80; 8427.20.40; 8427.20.80; 8427.90.00; 8428.32.00; 8428.33.00; 8428.39.00; 8428.60.00; 8428.70.00; 8428.90.03; 8429.11.00; 8429.19.00; 8429.20.00; 8429.30.00; 8429.40.00; 8429.51.10; 8429.51.50; 8429.52.10; 8429.52.50; 8429.59.10; 8429.59.50; 8431.20.00; 8431.39.00; 8431.41.00; 8431.43.40; 8431.43.80; 8433.11.00; 8433.20.00; 8433.51.00; 8433.59.00; 8433.90.10; 8433.90.50; 8443.16.0000; 8454.20.0010; 8454.20.0060; 8455.30.00; 8455.90.4000; 8455.90.8000; 8457.10.00; 8474.90.00; 8477.10.30; 8477.10.40; 8477.10.90; 8477.90.25; 8477.90.8601; 8479.89.55; 8479.89.65; 8479.90.45; 8479.90.55; 8479.90.65; 8479.90.75; 8479.90.85; 8479.90.95; 8480.49.0010; 8480.71.8045; 8480.71.8060; 8480.79.9010; 8482.10.5004; 8482.10.5008; 8482.10.5012; 8482.10.5016; 8482.10.5024; 8482.10.5028; 8482.10.5032; 8482.10.5036; 8482.10.5052; 8482.10.5056; 8482.10.5060; 8482.10.5064; 8482.10.5068; 8482.20.0064; 8482.20.0067; 8482.20.0090; 8482.99.05; 8482.99.15; 8482.99.25; 8482.99.35; 8482.99.45; 8482.99.65; 8483.10.1010; 8483.10.1050; 8483.10.50; 8483.20.40; 8483.20.80; 8483.30.40; 8483.30.80; 8483.40.10; 8483.40.5020; 8483.40.90; 8483.50.60; 8483.50.90; 8483.60.40; 8483.60.80; 8483.90.20; 8483.90.30; 8483.90.50; 8483.90.70; 8483.90.80; 8501.53.40; 8501.53.60; 8501.53.80; 8501.64.0110; 8502.31.0000; 8503.00.35; 8503.00.45; 8503.00.65; 8503.00.75; 8503.00.90; 8503.00.95; 8504.23.00; 8504.33.00; 8504.90.9634; 8504.90.9638; 8504.90.9642; 8514.20.40; 8514.20.60; 8516.29.00; 8516.60.60; 8601.10.00; 8601.20.00; 8602.10.00; 8602.90.00; 8603.10.00; 8603.90.00; 8604.00.00; 8605.00.00; 8607.11.00; 8607.19.0300; 8607.19.06; 8607.19.12; 8607.19.15; 8607.19.90; 8607.21.50; 8607.30.1010; 8607.30.1050; 8607.30.1090; 8607.30.50; 8607.91.00; 8607.99.50; 8609.00.00; 8701.10.01; 8701.21.0080; 8701.22.0080; 8701.23.0080; 8701.24.0080; 8701.29.0080; 8701.30.10; 8701.30.50; 8701.91.10; 8701.91.50; 8701.92.10; 8701.92.50; 8701.93.10; 8701.93.50; 8701.94.10; 8701.94.50; 8701.95.10; 8701.95.50; 8702.10.31; 8702.10.61; 8703.10.10; 8703.10.50; 8703.21.01; 8705.10.00; 8705.20.00; 8705.90.0010; 8705.90.0020; 8706.00.30; 8708.40.30; 8708.40.60; 8708.92.10; 8708.92.50; 8708.92.60; 8708.92.75; 8708.93.15; 8708.93.30; 8708.99.23; 8708.99.81; 8710.00.00; 8711.30.00; 8711.50.00; 8711.60.00; 8714.10.00; 8716.10.00; 8716.39.00; 8716.80.10; 8716.80.50; 8716.90.10; 8716.90.30; 9401.71.00; 9401.79.00; 9403.10.00; 9403.99.10; 9403.99.9010; 9403.99.9015; 9403.99.9040; 9403.99.9045; 9403.99.9051; 9403.99.9061; 9506.91.00”;

e. By amending subdivision (j) to note 19, by inserting the following into the list HTSUS provisions in numerical order: 7612.10.0000; 7612.90.5000; 7613.00.0000; 7614.10.10;

f. By amending subdivision (k) to note 19, by inserting the following into the list of HTSUS provisions, in numerical order:

“0402.99.68; 0402.99.70; 0402.99.90; 2106.90.9998; 2710.19.3050; 2903.43.10; 2903.45.10; 2903.49.00; 2903.51.10; 2903.59.90; 3004.90.9244; 3208.10.00; 3208.20.00; 3208.90.00; 3209.10.00; 3209.90.00; 3213.90.00; 3214.10.00; 3303.00.10; 3303.00.20; 3303.00.30; 3304.30.00; 3304.99.50; 3305.10.00; 3305.30.00; 3305.90.00; 3306.90.00; 3307.10.10; 3307.10.20; 3307.20.00; 3307.49.00; 3307.90.00; 3401.30.10; 3401.30.50; 3402.31.90; 3402.49.90; 3402.50.11; 3402.50.51; 3402.90.10; 3402.90.30; 3402.90.50; 3403.19.10; 3403.19.50; 3403.99.00; 3405.10.00; 3405.20.00; 3405.40.00; 3405.90.00; 3506.10.50; 3506.91.10; 3506.91.50; 3506.99.00; 3701.30.0000; 3808.59.10; 3808.59.40; 3808.61.10; 3808.61.50; 3808.62.10; 3808.62.50; 3808.69.10; 3808.69.50; 3808.91.15; 3808.91.25; 3808.91.30; 3808.91.50; 3808.94.10; 3808.94.50; 3809.91.00; 3810.10.00; 3811.19.00; 3811.21.00; 3814.00.10; 3814.00.20; 3814.00.50; 3820.00.00; 3824.99.9397; 7308.20.0035; 8307.90.6000; 8309.90.0020; 8309.90.0025; 8412.90.9070; 8412.90.9075; 8414.80.16; 8418.10.00; 8419.50.1000; 8424.89.90; 8443.16.0000; 8450.11.00; 8451.21.00; 8467.22.00; 8467.29.00; 8467.81.00; 8467.89.50; 8483.40.5020; 8483.90.5020; 8501.64.0110; 8502.20.00; 8502.31.0000; 8503.00.9546; 8503.00.9570; 8504.31.20; 8504.31.40; 8504.31.60; 8504.33.00; 8504.34.00; 8504.90.20; 8504.90.41; 8504.90.65; 8504.90.75; 8504.90.96; 8544.19.00; 8544.42.90; 8544.49.2000; 8544.49.9000; 8544.60.2000; 8544.60.6000; 8716.39.0040; 9401.79.00”

g. By amending subdivision (r) to note 19, by inserting the following HTSUS into the list provisions in numerical order: 7612.10.0000; 7612.90.5000; 7613.00.0000; 7614.10.10; and

h. By amending subdivision (s) to note 19, by inserting the following into the list of HTSUS provisions, in numerical order: “0402.99.68; 0402.99.70; 0402.99.90; 2106.90.9998; 2710.19.3050; 2903.43.10; 2903.45.10; 2903.49.00; 2903.51.10; 2903.59.90; 3004.90.9244; 3208.10.00; 3208.20.00; 3208.90.00; 3209.10.00; 3209.90.00; 3213.90.00; 3214.10.00; 3303.00.10; 3303.00.20; 3303.00.30; 3304.30.00; 3304.99.50; 3305.10.00; 3305.30.00; 3305.90.00; 3306.90.00; 3307.10.10; 3307.10.20; 3307.20.00; 3307.49.00; 3307.90.00; 3401.30.10; 3401.30.50; 3402.31.90; 3402.49.90; 3402.50.11; 3402.50.51; 3402.90.10; 3402.90.30; 3402.90.50; 3403.19.10; 3403.19.50; 3403.99.00; 3405.10.00; 3405.20.00; 3405.40.00; 3405.90.00; 3506.10.50; 3506.91.10; 3506.91.50; 3506.99.00; 3701.30.0000; 3808.59.10; 3808.59.40; 3808.61.10; 3808.61.50; 3808.62.10; 3808.62.50; 3808.69.10; 3808.69.50; 3808.91.15; 3808.91.25; 3808.91.30; 3808.91.50; 3808.94.10; 3808.94.50; 3809.91.00; 3810.10.00; 3811.19.00; 3811.21.00; 3814.00.10; 3814.00.20; 3814.00.50; 3820.00.00; 3824.99.9397; 7308.20.0035; 8307.90.6000; 8309.90.0020; 8309.90.0025; 8412.90.9070; 8412.90.9075; 8414.80.16; 8418.10.00; 8419.50.1000; 8424.89.90; 8443.16.0000; 8450.11.00; 8451.21.00; 8467.22.00; 8467.29.00; 8467.81.00; 8467.89.50; 8483.40.5020; 8483.90.5020; 8501.64.0110; 8502.20.00; 8502.31.0000; 8503.00.9546; 8503.00.9570; 8504.31.20; 8504.31.40; 8504.31.60; 8504.33.00; 8504.34.00; 8504.90.20; 8504.90.41; 8504.90.65; 8504.90.75; 8504.90.96; 8544.19.00; 8544.42.90; 8544.49.2000; 8544.49.9000; 8544.60.2000; 8544.60.6000; 8716.39.0040; 9401.79.00”

Annex II

A. Effective with respect to goods entered for consumption, or withdrawn from warehouse for consumption, on or after 12:01 a.m. eastern daylight time on August 18, 2025, subchapter III of chapter 99 of the Harmonized Tariff Schedule of the United States (HTSUS) is modified:

a. By amending subdivision (v)(vi) to U.S. note 2 by inserting after “9903.81.88” the following: “, but such additional duties shall apply to the non-steel content of such products of iron or steel”;

b. By amending subdivision (v)(vii) to U.S. note 2 by deleting the subdivision text and by inserting “The additional duties imposed by headings 9903.01.25, 9903.01.35, 9903.01.39, 9903.01.63, and 9903.02.01-9903.02.71 shall not apply to the declared value of the steel content of the derivative iron or steel products provided for in headings 9903.81.89, 9903.81.90, 9903.81.91, 9903.81.92 and 9903.81.93, but such additional duties shall apply to the non-steel content.” in lieu thereof;

c. By amending subdivision (v)(viii) to U.S. note 2 by inserting after “9903.85.02” the following: “, but such additional duties shall apply to the non-aluminum content of such products of aluminum”; and

d. By amending subdivision (v)(ix) to U.S. note 2 by deleting the subdivision text and by inserting “The additional duties imposed by headings 9903.01.25, 9903.01.35, 9903.01.39, 9903.01.63, and 9903.02.01-9903.02.71 shall not apply to the declared value of the aluminum content of the derivative aluminum products provided for in headings 9903.85.04, 9903.85.07, 9903.85.08 and 9903.85.09, but such additional duties shall apply to the non-aluminum content.” in lieu thereof.

B. Effective with respect to goods entered for consumption, or withdrawn from warehouse for consumption, on or after 12:01 a.m. eastern daylight time on August 18, 2025, subchapter III of chapter 99 of the HTSUS is modified:

a. By amending subdivision (b)(ii) to U.S. note 16 by deleting “7302.90.00” and inserting “7302.90” in lieu thereof; and

b. By amending subdivision (j)(ii) to U.S. note 16 by deleting “7302.90.00” and inserting “7302.90” in lieu thereof.

C. Effective with respect to goods entered for consumption, or withdrawn from warehouse for consumption, on or after 12:01 a.m. eastern daylight time on July 1, 2025, subchapter III of chapter 99 of the HTSUS is modified:

a. By amending subdivision (k) to U.S. note 19 by deleting “9401.99.9081” and inserting “9401.99.9030; 9401.99.9070” in lieu thereof; and

b. By amending subdivision (s) to U.S. note 19 by deleting “9401.99.9081” and inserting “9401.99.9030; 9401.99.9070” in lieu thereof.

[FR Doc. 2025-15819 Filed 8-15-25; 4:15 pm]

BILLING CODE 3510-33-P